DEPARTMENT OF TRANSPORTATION

Federal Aviation Administration

14 CFR Part 39

[Docket No. FAA-2009-0431; Directorate Identifier 2007-NM-174-AD; Amendment 39-16029; AD 2009-20-06]

RIN 2120-AA64

Airworthiness Directives; Airbus Model A310-203 and -222 Airplanes and Model A300 B4-620 Airplanes

AGENCY: Federal Aviation Administration (FAA), Department of Transportation (DOT).

ACTION: Final rule.

SUMMARY: We are superseding an existing airworthiness directive (AD) for the products listed above. This AD results from mandatory continuing airworthiness information (MCAI) originated by an aviation authority of another country to identify and correct an unsafe condition on an aviation product. The MCAI describes the unsafe condition as:

DGAC [Direction Générale de l'Aviation Civile] France AD 86-102-74(B) [which corresponds to FAA AD 88-06-03, amendment 39-5871] was issued to prevent development of damage, which was discovered during [a] fatigue test in the attachment angles of the rear pressure bulkhead (fuselage frame 80/82).

Following the life extension activities linked to the A310 program, the interval of inspection for A310-200 aircraft series was reduced from 12000 flight cycles (FC) to 9000 FC * * *.

Some stress analysis conducted in the frame of the life extension activities of the A300-600 program leads the manufacturer to reduce as well the interval of inspection applicable to A300B4-620 and A300C4-620 aircraft models.

* * * * *

The unsafe condition is cracking in the attachment angles of the rear pressure bulkhead, which could result in failure of the rear pressure bulkhead. We are issuing this AD to require actions to correct the unsafe condition on these products.

DATES: This AD becomes effective November 3, 2009.

The Director of the Federal Register approved the incorporation by reference of certain publications listed in this AD as of November 3, 2009.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Stafford, Aerospace Engineer, International Branch, ANM-116, Transport Airplane Directorate, FAA, 1601 Lind Avenue, SW., Renton, Washington 98057-3356; telephone (425) 227-1622; fax (425) 227-1149.

SUPPLEMENTARY INFORMATION:

Discussion

We issued a notice of proposed rulemaking (NPRM) to amend 14 CFR part 39 to include an AD that would apply to the specified products. That NPRM was published in the Federal Register on May 7, 2009 (74 FR 21274), and proposed to supersede AD 88-06-03, Amendment 39-5871 (53 FR 7730, March 10, 1988). That NPRM proposed to correct an unsafe condition for the specified products. The MCAI states:

DGAC [Direction Générale de l'Aviation Civile] France AD 86-102-74(B) [which corresponds to FAA AD 88-06-03] was issued to prevent development of damage, which was discovered during [a] fatigue test in the attachment angles of the rear pressure bulkhead (fuselage frame 80/82).

Following the life extension activities linked to the A310 program, the interval of inspection for A310-200 aircraft series was reduced from 12000 flight cycles (FC) to 9000 FC, which prompted the issuance of EASA AD 2007-0157, superseding DGAC France AD 86-102-74(B).

Some stress analysis conducted in the frame of the life extension activities of the A300-600 program leads the manufacturer to reduce as well the interval of inspection applicable to A300B4-620 and A300C4-620 aircraft models.

EASA AD 2007-0297 superseded EASA AD 2007-0157, retaining for A310 aircraft the requirements of EASA AD 2007-0157 and requiring the application of Airbus Service Bulletin (SB) A300-53-6005 Revision 4 on Airbus A300-600 aircraft, reducing the inspection interval from 12000 FC to 9000 FC.

[EASA] AD [2007-0297] has been revised to remove an inappropriate reference regarding the normal inspection program from the Compliance section, Note 3.

The unsafe condition is cracking in the attachment angles of the rear pressure bulkhead, which could result in failure of the rear pressure bulkhead. The required actions include a modification of the rear pressure bulkhead to improve the fatigue life of the attachment angles at frame (FR) 80/82, and, for certain airplanes, repetitive inspections for cracks in the rear pressure bulkhead and repair if necessary.

The modification includes installing additional attachment angles on the circumference of FR 80/82; installing a filler; installing additional supports between the aft pressure bulkhead and FR 80/82; installing an additional frame stiffener and support between the aft pressure bulkhead and FR 79 at stringer (STGR) 13; modifying the aft lavatories; applying surface protection to the modified area of the aft pressure bulkhead; modifying, reidentifying, and installing the heat and sound insulation in the area of STGR 9 and STGR 13 and between FR 79 and FR 80/82, left and right; and for certain airplanes, doing related investigative and corrective actions if necessary.

The related investigative action is doing a visual inspection around the entire circumference between FR 80/82 and the aft pressure bulkhead for damaged filler. The corrective action is removing any damaged filler and the adjacent area around the damage.

You may obtain further information by examining the MCAI in the AD docket.

Comments

We gave the public the opportunity to participate in developing this AD. We considered the comment received.

Request To Revise Paragraph (f)(4) of the NPRM

Airbus requests that we revise paragraph (f)(4) of the NPRM. Airbus states that for the airplanes identified in paragraph (f)(4) of the NPRM, it is not necessary to do the actions in accordance with the service bulletins specified in paragraph (f)(4) of the NPRM. Airbus further states that those airplanes are affected by Airworthiness Limitation Item (ALI) Task 531919-01-1A, as specified in the service bulletins identified in paragraph (f)(4) of this AD and the MCAI.

We agree with the commenter. The actions specified in paragraph (f)(4) of the NPRM are not required for the airplanes identified in that paragraph because those airplanes are already inspected in accordance with ALI Task 531919-01-1A, and no additional actions are necessary. We have confirmed with EASA that this is the intent of the MCAI. We have removed paragraph (f)(4) of the NPRM as it is unnecessary, and added a new Note 1 to this AD to clarify that no action is required by this AD for the airplanes discussed in this paragraph. We have re-identified the subsequent paragraphs accordingly.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 32 products of U.S. registry. We also estimate that it will take about 668 work-hours per product to comply with the basic requirements of this AD. The average labor rate is $80 per work-hour. Required parts will cost about $15,322 per product. Where the service information lists required parts costs that are covered under warranty, we have assumed that there will be no charge for these costs. As we do not control warranty coverage for affected parties, some parties may incur costs higher than estimated here. Based on these figures, we estimate the cost of this AD to the U.S. operators to be $2,200,384, or $68,762 per product.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-5871 (53 FR 7730, March 10, 1988) and adding the following new AD:

2009-20-06 Airbus: Amendment 39-16029. Docket No. FAA-2009-0431; Directorate Identifier 2007-NM-174-AD.

Effective Date

(a) This airworthiness directive (AD) becomes effective November 3, 2009.

Affected ADs

(b) This AD supersedes AD 88-06-03, Amendment 39-5871.

Applicability

(c) This AD applies to Airbus Model A310-203 and -222 airplanes, and Model A300 B4-620 airplanes; certificated in any category; all serial numbers except airplanes on which Airbus Modification 05526 has been incorporated in production.

Subject

(d) Air Transport Association (ATA) of America Code 53: Fuselage.

Reason

(e) The mandatory continuing airworthiness information (MCAI) states:

DGAC (Direction Générale de l'Aviation Civile) France AD 86-102-74(B) [which corresponds to FAA AD 88-06-03, amendment 39-5871] was issued to prevent development of damage, which was discovered during [a] fatigue test in the attachment angles of the rear pressure bulkhead (fuselage frame 80/82).

Following the life extension activities linked to the A310 program, the interval of inspection for A310-200 aircraft series was reduced from 12000 flight cycles (FC) to 9000 FC, which prompted the issuance of EASA AD 2007-0157, superseding DGAC France AD 86-102-74(B).

Some stress analysis conducted in the frame of the life extension activities of the A300-600 program leads the manufacturer to reduce as well the interval of inspection applicable to A300B4-620 and A300C4-620 aircraft models.

EASA AD 2007-0297 superseded EASA AD 2007-0157, retaining for A310 aircraft the requirements of EASA AD 2007-0157 and requiring the application of Airbus Service Bulletin (SB) A300-53-6005 Revision 4 on Airbus A300-600 aircraft, reducing the inspection interval from 12000 FC to 9000 FC.

[EASA] AD [2007-0297] has been revised to remove an inappropriate reference regarding the normal inspection program from the Compliance section, Note 3.

The unsafe condition is cracking in the attachment angles of the rear pressure bulkhead, which could result in failure of the rear pressure bulkhead. The required actions include a modification of the rear pressure bulkhead to improve the fatigue life of the attachment angles at frame (FR) 80/82; applicable related investigative and corrective actions; and, for certain airplanes, repetitive inspections for cracks in the rear pressure bulkhead and repair if necessary.

Requirements of This AD: Actions and Compliance

(f) Unless already done, do the following actions.

Modification

(1) Except as required by paragraph (f)(2) of this AD: Before the accumulation of 12,000 total flight cycles since first flight, or within 1,500 flight cycles after the effective date of this AD, whichever occurs later, modify the aft pressure bulkhead to improve the fatigue life of the attachment angles at frame 80/82 and do all applicable related investigative and corrective actions, in accordance with the Accomplishment Instructions of Airbus Service Bulletin A300-53-6006, Revision 3, dated March 24, 1989; or Airbus Mandatory Service Bulletin A310-53-2025, Revision 06, dated August 3, 2006; as applicable. Do all applicable related investigative and corrective actions before further flight.

(2) For airplanes identified in paragraph (c) of AD 2006-22-03, amendment 39-14800: At the earlier of the compliance times specified in paragraphs (f)(2)(i) and (f)(2)(ii) of this AD, do the actions specified in paragraph (f)(1) of this AD.

(i) Before the accumulation of 12,000 total flight cycles since first flight, or within 1,500 flight cycles after the effective date of this AD, whichever occurs later.

(ii) At the compliance time specified in paragraph (h) of AD 2006-22-03.

Inspections and Corrective Action

(3) For airplanes on which the modification required by paragraph (f)(1) or (f)(2) of this AD is done after the accumulation of 6,000 total flight cycles since first flight: At the times specified in paragraphs (f)(3)(i) and (f)(3)(ii) of this AD, do an eddy current inspection for any cracking in the critical area of the rear pressure bulkhead between stringers 8 and 18, and repair all cracking before further flight, in accordance with the Accomplishment Instructions of Airbus Mandatory Service Bulletin A300-53-6005, Revision 04, dated July 18, 2007; or Airbus Mandatory Service Bulletin A310-53-2024, Revision 05, dated October 13, 2006; as applicable.

(i) Before or concurrently with the modification required by paragraph (f)(1) or (f)(2) of this AD, as applicable; and

(ii) Before the accumulation of 18,000 total flight cycles since first flight, or within 1,500 flight cycles after the effective date of this AD, whichever occurs later; and thereafter at intervals not to exceed 9,000 flight cycles.

Note 1: For airplanes on which the modification required by paragraph (f)(1) or (f)(2) of this AD is done at or before the accumulation of 6,000 total flight cycles since first flight: No action is required by this AD. For these airplanes, refer to Airbus A300-600 ALI Task 531919-01-1A or Airbus A310 ALI Task 531919-01-1A, as applicable, for guidance on the normal inspection program.

(4) Modifications done before the effective date of this AD in accordance with the service bulletins identified in Table 1 of this AD are acceptable for compliance with the requirements of paragraph (f)(1) and (f)(2) of this AD.

Table 1—Modifications Done Using Previous Service Bulletins
Model— | Airbus Service Bulletin— | Revision— | Dated—
A300 B4-620 airplanes | A300-53-6006 | Original | May 6, 1986.
| A300-53-6006 | 1 | September 19, 1986.
| A300-53-6006 | 2 | August 11, 1988.
A310-203 and -222 airplanes | A310-53-2025 | Original | April 21, 1986.
| A310-53-2025 | 1 | September 19, 1986.
| A310-53-2025 | 2 | February 16, 1987.
| A310-53-2025 | 3 | April 7, 1987.
| A310-53-2025 | 4 | October 20, 1987.
| A310-53-2025 | 5 | March 24, 1989.

(5) Inspections done before the effective date of this AD in accordance with the service bulletins identified in Table 2 of this AD are acceptable for compliance with the requirements of paragraph (f)(3) of this AD.

Table 2—Inspections Done With Previous Service Bulletins
Model— | Airbus Service Bulletin— | Revision— | Dated—
A300 B4-620 airplanes | A300-53-6005 | Original | May 6, 1986.
| A300-53-6005 | 1 | June 20, 1986.
| A300-53-6005 | 2 | September 22, 1986.
| A300-53-6005 | 3 | April 22, 1987.
A310-203 and -222 airplanes | A310-53-2024 | Original | April 21, 1986.
| A310-53-2024 | 1 | June 20, 1986.
| A310-53-2024 | 2 | October 2, 1986.
| A310-53-2024 | 3 | February 17, 1987.
| A310-53-2024 | 4 | February 2, 1988.

(6) Modification of the aft pressure bulkhead to improve the fatigue life of the attachment angles at frame (FR) 80/82 in accordance with paragraph (h) of AD 2006-22-03 is acceptable for compliance with the corresponding requirement of paragraphs (f)(1) and (f)(2) of this AD.

FAA AD Differences

Note 2: This AD differs from the MCAI and/or service information as follows. This AD includes a compliance time specified in paragraph (f)(2) of this AD for airplanes that are also affected by AD 2006-22-03. We realize that the requirements of this AD will necessitate that some operators do the modification required by paragraph (h) of AD 2006-22-03 early. However, accomplishing the modification within the compliance time specified in this AD is required to address cracking in the attachment angles of the rear pressure bulkhead, which could result in failure of the rear pressure bulkhead.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Stafford, Aerospace Engineer, International Branch, ANM-116, Transport Airplane Directorate, FAA, 1601 Lind Avenue, SW., Renton, Washington 98057-3356; telephone (425) 227-1622; fax (425) 227-1149. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI EASA Airworthiness Directive 2007-0297R1, dated September 17, 2008, and the service bulletins listed in Table 3 of this AD, for related information.

Table 3—Related Service Bulletins
Airbus Service Bulletin | Revision | Date
Airbus Mandatory Service Bulletin A300-53-6005 | 04 | July 18, 2007.
Airbus Mandatory Service Bulletin A310-53-2024 | 05 | October 13, 2006.
Airbus Mandatory Service Bulletin A310-53-2025 | 06 | August 3, 2006.
Airbus Service Bulletin A300-53-6006 | 3 | March 24, 1989.

Material Incorporated by Reference

(i) You must use the service information contained in Table 4 of this AD to do the actions required by this AD, unless the AD specifies otherwise.

Table 4—Material Incorporated by Reference
Airbus Service Bulletin | Revision | Date
Airbus Mandatory Service Bulletin A300-53-6005 | 04 | July 18, 2007.
Airbus Mandatory Service Bulletin A310-53-2024 | 05 | October 13, 2006.
Airbus Mandatory Service Bulletin A310-53-2025 | 06 | August 3, 2006.
Airbus Service Bulletin A300-53-6006 | 3 | March 24, 1989.

Airbus Service Bulletin A300-53-6006, Revision 3, dated March 24, 1989, contains the following effective pages:

Page Nos. | Revision level shown on page | Date shown on page
1, 29, 47, 48 | 3 | March 24, 1989.
2-28, 30-46, 49-52 | 2 | August 11, 1988.

(1) The Director of the Federal Register approved the incorporation by reference of this service information under 5 U.S.C. 552(a) and 1 CFR part 51.

(2) For service information identified in this AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on September 16, 2009.
Ali Bahrami,
Manager, Transport Airplane Directorate, Aircraft Certification Service.

[FR Doc. E9-23094 Filed 9-28-09; 8:45 am]

BILLING CODE 4910-13-P